DEPARTMENT OF JUSTICE

Notice of Lodging of Consent Decree Under Comprehensive Environmental Response, Compensation and Liability Act

In accordance with Departmental policy, 28 CFR 50.7, notice is hereby given that on January 10, 2006, a proposed Consent Decree in United States v. Beehive Barrel and Drum, Inc. d/b/a Cascade Cooperage, Inc. (D. Utah), C.A. No. 2:04-CV-00570 (TC), was lodged with the United States District Court for the District of Utah, Central Division.

In this action, the United States seeks response costs incurred and to be incurred by the Environmental Protection Agency (“EPA”), pursuant to Section 107 of the Comprehensive Environmental Response, Compensation and Liability Act, as amended (“CERCLA”), 42 U.S.C. 9607, in connection with the Service First Barrel and Drum Site, located in Salt Lake City, Utah. Three defendants, Adria Rossomondo, Arthur Rossomondo, and Beehive Barrel and Drum, Inc. d/b/a Cascade Cooperage, Inc. (“Rossomondo Defendants”), have resolved the United States' response cost claims through this Consent Decree. The settlement incorporated in the Consent Decree does not resolve the United States' response cost claims or any other claim with respect to the five other defendants named in the complaint.

The Consent Decree provides, inter alia, that the Rossomondo Defendants and EPA will enter into a settlement pursuant to EPA's ability-to-pay policies and procedures. As part of settlement negotiations, EPA requested that the Rossomondo Defendants provide information regarding each defendant's financial status, and the Rossomondo Defendants cooperatively provided all of the requested information, which was necessary under EPA's policies and procedures to perform an ability-to-pay settlement analysis. Based upon the analysis, EPA determined that the Rossomondo Defendants had the financial ability to pay a nominal amount, or $325.00, of EPA's response costs that were incurred in connection with the clean-up of the Site.

The Department of Justice will receive, for a period of 30 days from the date of this publication, comments relating to the proposed Consent Decree. Comments should be addressed to the Assistant Attorney General for the Environment and Natural Resources Division, P.O. Box 7611, U.S. Department of Justice, Washington, DC 20044-7611, and should refer to United States v. Beehive Barrel and Drum, Inc. d/b/a Cascade Cooperage, Inc., DOJ Ref. No. 90-11-3-08170.

The proposed Consent Decree may be examined at the Office of the United States Attorney, 185 South State, Ste. 400, Salt Lake City, Utah 84111; and U.S. EPA Region 8, 999 18th Street, Denver, Colorado 80202. During the public comment period, the proposed Consent Decree may also be examined on the following Department of Justice Web site, http://www.usdoj.gov/enrd/open.html. A copy of the proposed Consent Decree may be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy of the Consent Decree from the Consent Decree Library, please enclose a check in the amount of $6.00 (.25 cents per page reproduction costs), payable to the U.S. Treasury.

Robert D. Brook,
Assistant Section Chief, Environmental Enforcement Section, Environment and Natural Resources Division.

[FR Doc. 06-603 Filed 1-23-06; 8:45 am]

BILLING CODE 4410-15-M